PEACE CORPS

Information Collection Requests Under OMB Review

AGENCY: Peace Corps.

ACTION: 30-Day notice and request for comments.

SUMMARY: The Peace Corps will submit the following information collection request to the Office of Management and Budget (OMB) for approval. In compliance with the Paperwork Reduction Act of 1995 (44 U.S.C. chapter 35), the Peace Corps invites the general public to comment on this request revision of a currently approved collection, Peace Corps 50th Anniversary Archive Project (OMB Control Number: 0420—0542). The title of the information collection will change from Peace Corps 50th Anniversary Archives to Peace Corps Digital Library (OMB Control Number 0420—pending). This process is conducted in accordance with 5 CFR 1320.10.

DATES: Submit comments on or before August 8, 2012.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA Officer, Peace Corps, 1111 20th Street NW., Washington, DC 20526, (202) 692-1236, or email at pcfr@peacecorps.gov. Copies of available documents submitted to OMB may be obtained from Denora Miller.

SUPPLEMENTARY INFORMATION: The 50th Anniversary Archive Project collects stories and photographs from Returned Peace Corps Volunteers along with basic contact information (name, phone number, email address) and information about their Peace Corps service, such as dates of service, geographic location, and sector of service. The Federal Register notice with a 60-day comment period soliciting comments on this collection of information was published on October 17, 2011 (76 FR 64127).

Method: The information is collected from an online form.

Old Title: Peace Corps 50th Anniversary Archive Project.

New Title: Peace Corps Digital Library.

OMB Control Number: 0420—pending.

Affected Public: Returned Peace Corps Volunteer and general public.

Respondents' Obligation To Reply: Voluntary.

Burden to the Public

(a) Estimated number of respondents: 1,000.

(b) Frequency of response: One time.

(c) Estimated average burden per response: 15 minutes.

(d) Estimated total reporting burden: 250 hours.

(e) Estimated annual cost to respondents: $0.00.

General Description of Collection: This information is used to add assets to the digital library on the Peace Corps Web site; provide stories and photos for use in exhibits, news articles and events about Peace Corps; assist in documenting the history of the Peace Corps as experienced by its Volunteers through the years.

Request for Comment: Peace Corps invites comments on whether the proposed collection of information is necessary for proper performance of the functions of the Peace Corps Response, including whether the information will have practical use; the accuracy of the agency's estimate of the burden of the proposed collection of information, including the validity of the information to be collected; and, ways to minimize the burden of the collection of information on those who are to respond, including through the use of automated collection techniques, when appropriate, and other forms of information technology.

This notice issued in Washington, DC, on July 2, 2012.
Garry W. Stanberry,
Acting Associate Director, Management.

[FR Doc. 2012-16649 Filed 7-6-12; 8:45 am]

BILLING CODE 6051-01-P